DEPARTMENT OF TRANSPORTATION

National Highway Traffic Safety Administration

[Docket No. NHTSA-2011-0115]

National Emergency Medical Services Advisory Council (NEMSAC); Notice of Federal Advisory Committee Meeting

AGENCY: National Highway Traffic Safety Administration (NHTSA), Department of Transportation (DOT).

Title: National Emergency Medical Services Advisory Council (NEMSAC); Notice of Federal Advisory Committee Meeting.

ACTION: Meeting Notice—National Emergency Medical Services Advisory Council.

SUMMARY: NHTSA announces a meeting of NEMSAC to be held in the Metropolitan Washington, DC area. This notice announces the date, time and location of the meeting, which will be open to the public. The purpose of NEMSAC is to provide a nationally recognized council of emergency medical services representatives and consumers to provide advice and recommendations regarding Emergency Medical Services (EMS) to the U.S. DOT's NHTSA.

DATES: The meeting will be held on September 7, 2011, from 1 p.m. to 5 p.m. E.D.T., and on September 8, 2011, from 8 a.m. to 12 Noon E.D.T. A public comment period will take place on September 7, 2011, between 3:15 p.m. and 4:15 p.m. E.D.T. Written comments or requests to make oral presentations must be received by September 2, 2011.

ADDRESSES: The meeting will be held at the Hyatt Arlington, 1325 Wilson Boulevard, Arlington, Virginia 22209. Written comments and requests to make oral presentations at the meeting should reach Drew Dawson at the address listed below and should be received by September 2, 2011. All submissions received may be submitted by either one of the following methods: (1) You may submit comments by e-mail: drew.dawson@dot.gov or noah.smith@dot.gov or (2) you may submit comments by fax: (202) 366-7149.

FOR FURTHER INFORMATION CONTACT: Drew Dawson, Director, U.S Department of Transportation, Office of Emergency Medical Services, 1200 New Jersey Avenue, SE., NTI-140, Washington, DC 20590, telephone number (202) 366-9966; e-mail Drew.Dawson@dot.gov.

SUPPLEMENTARY INFORMATION: Notice of this meeting is given under the Federal Advisory Committee Act, Public Law 92-463, as amended (5 U.S.C. App. 1 et seq.) The NEMSAC will meet on Wednesday and Thursday, September 7-8, 2011, at the Hyatt Arlington, 1325 Wilson Boulevard, Arlington, Virginia 22209.

Agenda of National EMS Advisory Council Meeting, September 7-8, 2011

The tentative agenda includes the following:

Wednesday, September 7, 2011

(1) Opening Remarks.

(2) Introduction of Members and all in attendance.

(3) Review and Approval of Minutes of last Meeting.

(4) Update from NHTSA Office of EMS.

(5) Presentation of the Draft Culture of Safety Strategy.

(6) Update from the NASEMSO Highway Incident and Transportation Systems Committee.

(7) Public Comment Period.

(8) Business of the Council.

Thursday, September 8, 2011

(1) Presentations from NEMSAC Committees.

(2) Deliberations of Committee Documents.

(3) Federal Partner Update.

(4) Discussion of New and Emerging Issues.

(5) Unfinished Business/Continued Discussion from Previous Day.

(6) Next Steps and Adjourn.

A public comment period will take place on September 7, 2011, between 3:15 p.m. and 4:15 p.m. Public Attendance: This meeting will be open to the public. There will not be a teleconference option for this meeting. Individuals wishing to attend must provide their name, affiliation, phone number, and e-mail address to Noah Smith by e-mail at Noah.Smith@dot.gov or by telephone at (202) 366-5030 no later than September 2, 2011.

Members of the public who wish to make comments on Wednesday, September 7 between 3:15 p.m. and 4:15 p.m. are requested to register in advance. In order to allow as many people as possible to speak, speakers are requested to limit their remarks to 5 minutes. For those wishing to submit written comments, please follow the procedure noted above.

Minutes of the NEMSAC Meeting will be available to the public online through http://www.ems.gov.

Issued on: August 12, 2011.
Jeffrey P. Michael,
Associate Administrator for Research and Program Development.

[FR Doc. 2011-20943 Filed 8-16-11; 8:45 am]

BILLING CODE 4910-59-P